DEPARTMENT OF HOMELAND SECURITY

Coast Guard

[Docket No.USCG-2008-0751]

Proposed Modernization of the Coast Guard; Draft Programmatic Environmental Assessment

AGENCY: United States Coast Guard (USCG), DHS.

ACTION: Notice of availability and request for comments.

SUMMARY: The USCG announces the availability of the draft Programmatic Environmental Assessment (PEA) for Coast Guard modernization. Through this modernization effort, the USCG intends to update its command structure, support systems, and business practices to position itself for sustainable and effective mission execution into the twenty-first century. The Draft PEA is an important document informing these efforts, and we request public input into the Draft PEA for more fully informed decision making during this process.

DATES: Comments and related material must reach the Docket Management Facility on or before September 15, 2008.

ADDRESSES: You may submit comments identified by USCG Docket number USCG-2008-0751 to the Docket Management Facility at the U.S. Department of Transportation (DOT). To avoid duplication, please use only one of the following methods:

(1) Online: http://www.regulations.gov.

(2) Mail: Docket Management Facility (M-30), U.S. Department of Transportation, West Building Ground Floor, Room W12-140, 1200 New Jersey Ave., SE., Washington, DC 20590-0001.

(3) Fax: 202-493-2251.

(4) Hand Delivery: Room W12-140 on the Ground Floor of the West Building, 1200 New Jersey Ave., SE., Washington, DC 20590, between 9 AM and 5 PM, except Federal holidays. The telephone number is 202-366-9329.

FOR FURTHER INFORMATION CONTACT: If you have questions on this notice, please contact Ms. Kebby Kelly, USCG, telephone (202) 475-5690, e-mail: Kebby.Kelley@uscg.mil, or Mr. Frank Esposito, USCG, telephone (202) 372-3746, e-mail: Mr.Frank.H.Esposito@uscg.mil. If you have questions on viewing or sending materials to the docket, call Ms. Renee Wright, Program Manager, Docket Operations, telephone 202-366-9826.

SUPPLEMENTARY INFORMATION:

Public Participation and Request for Comments

The Coast Guard encourages submission of comments and related material on the Draft PEA. All comments received will be posted, without change, to www.regulations.gov and will include any personal information you have provided. The Coast Guard has an agreement with the U.S. DOT to use the DOT Docket Management Facility. Please see DOT's “Privacy Act” paragraph, below.

Submitting Comments

If you submit a comment, please include your name and address, identify the docket number to this notice (USCG-2008-0751), and give the reason for each comment. Comments and materials may be submitted by electronic means, mail, fax, or hand delivery to the Docket Management Facility at the address listed under ADDRESSES, but please submit comments and materials by only one means. If you submit comments and materials by mail or delivery, submit them in an unbound format, no larger than 8½ by 11 inches, suitable for copying and electronic filing. If you submit them by mail and would like to know that they reached the Facility, please enclose a stamped, self-addressed postcard or envelope. The USCG will consider all comments and materials received during the comment period.

Viewing the Comments and Draft PEA

To view the comments and the Draft PEA, go to http://www.regulations.gov. Conduct a search on the Coast Guard docket number: USCG-2008-0751. You may also visit the Docket Management Facility in Room W12-140 on the Ground Floor of the DOT West Building, 1200 New Jersey Ave., SE., Washington, DC 20590, between 9 AM and 5 PM, except Federal holidays.

Privacy Act

Anyone can search the electronic form of all comments received into any of the dockets by the name of the individual submitting the comment (or signing the comment, if submitted on behalf of an association, business, labor union, etc.). You may review the DOT's Privacy Act Statement in the Federal Register published on April 11, 2000 (65 FR 19477), or you may visit http://dms.dot.gov.

Background and Purpose

The USCG intends to modernize its command structure, support systems, and business practices to position itself for sustainable and effective mission execution into the twenty-first century. As part of the modernization process the USCG would reorganize its Headquarters to improve the way it develops policy and manages resources. Operational policy and planning functions would be reorganized under a Deputy Commandant for Operations, who would serve as the single Headquarters element to develop regulations and standards and to reconcile strategic operational plans, policies, and capabilities with budget and legal considerations. Mission support functions would be reorganized under a Deputy Commandant for Mission Support to oversee the Coast Guard's support and logistics systems and processes. These changes would occur primarily in the Baltimore, Maryland, and Washington, DC areas.

Part of the creation of the mission support organization would be the establishment of logistics and service centers. A Surface Forces Logistics Center (SFLC) would be created in newly constructed space at Coast Guard Yard, Curtis Bay, MD, or in leased space in the Portsmouth/Norfolk, Virginia area. A Shore Infrastructure Logistics Center (SILC) would be created in leased space in either Alameda, California, or Norfolk, Virginia. In addition, a new Personnel Service Center (PSC) (Note: Current PSC in Topeka, KS, will be renamed) and a Command, Control, Communications, Computers, and Information Technology (C4IT) Service Center would be created in leased space in the Washington, DC area.

Under modernization, the Atlantic and Pacific Area Commands would be restructured into an operational command (OPCOM) and a force readiness command (FORCECOM). OPCOM would be formed by reorganizing the USCG command and control structure for operations and placing responsibility for all USCG operations under the direction of one field command instead of two Area Commands. OPCOM would serve as the single point of accountability for planning and executing USCG operations and would reside primarily at existing USCG facilities in the Portsmouth/Norfolk, Virginia area. FORCECOM would be created by transforming the Pacific Area Command into a second primary field command. FORCECOM would be responsible for the current and future readiness of the USCG workforce and platforms and for ensuring that the USCG maintains the capabilities to execute its missions. FORCECOM would reside primarily at existing USCG facilities in the Alameda/Oakland, California area. There are no plans to restructure Sectors or subordinate units, to move other operational units, or to reduce the overall USCG workforce under modernization.

The USCG has prepared a Draft PEA that identifies and examines the reasonable alternatives for modernization and assesses their potential environmental impacts. The Draft PEA identifies potential direct, indirect, and cumulative impacts associated with the USCG modernization program alternatives, including USCG mission-related impacts and site-specific impacts.

The USCG has developed two action alternatives to achieve modernization, a full modernization alternative and a partial modernization alternative. These two alternatives represent the upper and lower levels of change required to achieve the purpose and need of the modernization program and therefore capture the range of social, economic, and environmental impacts that would occur while implementing the program. The full modernization alternative emphasizes co-location of Coast Guard mission support and operations resources and functions. This alternative evaluates the effects of increased billet levels (a billet is a USCG employment position) at each of the three geographic areas affected (though increases would depend upon where the USCG decided to ultimately site logistics and service centers), leasing additional facility space, and potential construction at Coast Guard Yard. The partial modernization alternative would focus on operating from existing locations rather than on co-locating functional resources in a single location. This alternative evaluates a decrease in billet levels in some geographic locations, minimizes leasing, and would include no new construction. The partial modernization alternative would minimally achieve the purpose and need for modernization, while the full modernization alternative would allow the USCG to fully reach the envisioned functionality of modernization. The USCG prefers the full modernization alternative. Either modernization alternative would be implemented over at least five years.

The USCG is requesting public comments on the Draft PEA, including environmental impacts and resources analyzed in the Draft PEA or possible sources of data or information not included in the Draft PEA. Public comments will be considered in preparing the Final PEA.

Dated: August 8, 2008.
Clifford I. Pearson,
Vice Admiral, U.S. Coast Guard, Chief of Staff.

[FR Doc. E8-18871 Filed 8-14-08; 8:45 am]

BILLING CODE 4910-15-P